ENVIRONMENTAL PROTECTION AGENCY

[ER-FRL-8990-5]

Environmental Impact Statements; Notice of Availability

Responsible Agency: Office of Federal Activities, General Information (202) 564-1399 or http://www.epa.gov/compliance/nepa/.

Weekly receipt of Environmental Impact Statements Filed 05/10/2010 Through 05/14/2010 Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100174, Final EIS, USFS, 00,Wallowa-Whitman National Forest Invasive Plants Treatment Project, To Protect Native Vegetation by Controlling, Containing, or Eradicating Invasive Plant, Wallowa, Baker, Malheur and Grant Counties, OR and Adams and Nez Perce Counties, ID, Wait Period Ends: 06/21/2010, Contact: Robert W. Rock 541-523-1242.

EIS No. 20100175, Draft EIS, USN, 00,United States Marine Corps Joint Strike Fighter F-35B West Coast Basing, To Efficiently and Effectively Maintain Combat Capability and Mission Readiness, CA and AZ, Comment Period Ends: 07/05/2010, Contact: Adrianne Saboya 619-532-4742.

EIS No. 20100176, Final EIS, USN, WA,Naval Sea Systems Command (NAVSEA). Naval Undersea Warfare Center (NUWC), Keyport Complex Extension, Propose to Extend the Operational Areas, Three Distinct Range Sites: Keyport Range Site; Dabob Bay Range Complex (DBRC) Site, Quinault Underwater Tracking Range Site, Gray Harbor, Jefferson, Kitsap and Mason Counties, WA, Wait Period Ends: 06/21/2010, Contact: Kimberly Kler 360-396-0927.

EIS No. 20100177, Draft EIS, USFS, MN,Tracks Project, Proposing Forest Vegetation Management and Related Transportation System Activities, Superior National Forest, St. Louis and Lake Counties, MN, Comment Period Ends:07/05/2010, Contact: Susan Duffy 218-365-2097.

EIS No. 20100178, Draft EIS, USACE, LA,Medium Diversion at White Ditch, Integrated Feasibility Study, Louisiana Coastal Area (LCA) Ecosystem Restoration, Implementation, Plaquemines Parish, LA, Comment Period Ends:07/05/2010, Contact: Dr. Nathan Dayan 504-862-2530.

EIS No. 20100179, Final EIS, TVA, AL,Bellefonte Site Single Nuclear Unit Project, Proposes to Complete or Construct and Operate a Single 1,100-1, 200 MW Nuclear Generation Unit, Jackson County, AL, Wait Period Ends:06/21/2010, Contact: Ruth Horton 865-632-3719.

EIS No. 20100180, Draft EIS, USACE, LA,Convey Atchafalaya River Water to Northern Terrebonne Marshes and Multipurpose Operation of Houma Navigation Lock, Integrated Feasibility Study, Louisiana Coastal Area (LCA) Implementation, Lafourche, Terrebonne, St. Mary Parish, LA, Comment Period Ends:07/05/2010, Contact: Dr. Nathan Dayan 504-862-2530.

EIS No. 20100181, Final EIS, DOE, MS,Kemper County Integrated Gasification Combined-Cycle (IGCC) Project, Construction and Operation of Advanced Power Generation Plant, U.S. Army COE Section 404 Permit, Kemper County, MS, Wait Period Ends: 06/21/2010, Contact: Richard A. Hargis, Jr. 888-322-7426 Ext. 6065.

EIS No. 20100182, Draft EIS, USACE, LA,Small Diversion at Convent/Blind River, Proposes to construct a Freshwater Diversion Project, Integrated Feasibility Study, Louisiana Coastal Area, St. James Parish, LA, Comment Period Ends: 07/05/2010, Contact: Dr. William P. Klein, Jr. 504-862-2540.

EIS No. 20100183, Draft EIS, USACE, LA,Amite River Diversion Canal Modification Element of the Section 7006(E)(3) Ecosystem Restoration Project, Feasibility Study, Louisiana Coastal Area (LCA) Ascension and Livingston Parishes, LA, Comment Period Ends: 07/05/2010, Contact: Dr. William P. Klein, Jr. 504-862-2540.

Dated: May 18, 2010.
Ken Mittelholtz,
Deputy Director, NEPA Compliance Division, Office of Federal Activities.

[FR Doc. 2010-12262 Filed 5-20-10; 8:45 am]

BILLING CODE 6560-50-P